DEPARTMENT OF TRANSPORTATION

Federal Railroad Administration

[Docket No. FRA-2005-23281, Notice No. 3]

Safety of Private Highway-Rail Grade Crossings; Notice of Safety Inquiry

AGENCY: Federal Railroad Administration (FRA), Department of Transportation (DOT).

ACTION: Notice of safety inquiry.

SUMMARY: On July 27, 2006, the FRA published a notice announcing its intent to conduct a series of open meetings throughout the United States, in cooperation with appropriate State agencies, to consider issues related to the safety of private highway-rail grade crossings. This notice indicated that the first of these meetings would be held August 30, 2006, in Fort Snelling, Minnesota. On September 22, 2006, the FRA published a second notice, which announced that FRA had scheduled subsequent meetings, to be held on September 27, 2006, in Raleigh, North Carolina; October 26, 2006, in San Francisco, California; and December 6, 2006, in New Orleans, Louisiana. This Notice No. 3 announces that the FRA has scheduled an additional meeting, to be held on February 15, 2007, in Syracuse, New York.

At the meeting, FRA intends to solicit oral statements from private crossing owners, railroads and other interested parties on issues related to the safety of private highway-rail grade crossings, which will include, but not be limited to, current practices concerning responsibility for safety at private grade crossings, the adequacy of warning devices at private crossings, and the relative merits of a more uniform approach to improving safety at private crossings. FRA has also opened a public docket on these issues, so that interested parties may submit written comments for public review and consideration.

DATES: The public meeting will be held in Syracuse, New York on February 15, 2007, at the Doubletree Hotel, 6301 State Route 298, Syracuse, New York, 13057, beginning at 9:30 a.m.

Persons wishing to participate are requested to provide their names, organizational affiliation and contact information to Michelle Silva, Docket Clerk, FRA, 1120 Vermont Avenue, NW., Washington, DC 20590 (telephone 202-493-6030). Persons needing sign language interpretation or other reasonable accommodation for disability are also encouraged to contact Ms. Silva. Additional public meetings will be announced as they are scheduled.

FOR FURTHER INFORMATION CONTACT: Ron Ries, Office of Safety, FRA, 1120 Vermont Avenue, NW., Washington, DC 20590 (telephone 202-493-6299); Miriam Kloeppel, Office of Safety, FRA, 1120 Vermont Avenue, NW., Washington, DC 20590 (telephone 202-493-6299); or Kathryn Shelton, Office of Chief Counsel, FRA, 1120 Vermont Avenue, NW., Washington, DC 20590 (telephone 202-493-6038).

SUPPLEMENTARY INFORMATION: For additional information, please see the initial notice, published July 27 in the Federal Register (citation: 71 FR 42713) and available at http://a257.g.akamaitech.net/7/257/2422/01jan20061800/edocket.access.gpo.gov/2006/pdf/06-6501.pdf

Request for Comments

While FRA solicits discussion and comments on all areas of safety at private highway-rail grade crossings, we particularly encourage comments on the following topics:

❑ At-grade highway-rail crossings present inherent risks to users, including the railroad and its employees, and to other persons in the vicinity should a train derail into an occupied area or release hazardous materials. When passenger trains are involved, the risks are heightened. From the standpoint of public policy, how do we determine whether creation or continuation of a private crossing is justified?

❑ Is the current assignment of responsibility for safety at private crossings effective? To what extent do risk management practices associated with insurance arrangements result in “regulation” of safety at private crossings?

❑ How should improvement and/or maintenance costs associated with private crossing be allocated?

❑ Is there a need for alternative dispute resolution mechanisms to handle disputes that may arise between private crossing owners and the railroads?

❑ Should the State or Federal government assume greater responsibility for safety at private crossings?

❑ Should there be Nationwide standards for warning devices at private crossings, or for intersection design of new private grade crossings?

❑ How do we determine when a private crossing has a ``public purpose'' and is subject to public use?

❑ Should some crossings be categorized as ``commercial crossings'', rather than as ``private crossings''?

❑ Are there innovative traffic control treatments that could improve safety at private crossings on major rail corridors, including those on which passenger service is provided?

❑ Should the Department of Transportation request enactment of legislation to address private crossings? If so, what should it include?

Issued in Washington, DC, on December 29, 2006.
Jo Strang,
Associate Administrator for Safety.

[FR Doc. E6-22606 Filed 1-4-07; 8:45 am]

BILLING CODE 4910-06-P